DEPARTMENT OF TRANSPORTATION

Federal Aviation Administration

Proposed Advisory Circular 25.869-1X, Electrical System Fire and Smoke Protection

AGENCY: Federal Aviation Administration (FAA), DOT.

ACTION: Notice of availability of proposed Advisory Circular (AC) 25.869-1X and request for comments.

SUMMARY: This notice announces and requests comment on a proposed advisory circular (AC). The AC provides methods acceptable to the Administrator for showing compliance with revised standards for fire protection of electrical system components, which the FAA is proposing in a separate notice elsewhere in this Federal Register. This notice is necessary to give all interested people an opportunity to present their views on the proposed AC.

DATES: Send your comments on or before July 16, 2001.

ADDRESSES: Send your comments on the proposed AC to: Federal Aviation Administration, Attn: Massoud Sadeghi, FAA, Transport Airplane Directorate, Aircraft Certification Service, Airplane and Flight Crew Interface Branch, ANM-111, 1601 Lind Avenue SW., Renton, Washington 98055-4056. You may inspected all comments received at that address between 7:30 a.m. and 4:00 p.m. weekdays, except Federal holidays.

FOR FURTHER INFORMATION CONTACT: Jill DeMarco, Program Management Branch, ANM-114, Transport Airplane Directorate, FAA, 1601 Lind Avenue SW., Renton, Washington 98055-4056; telephone (425) 227-1313; fax (425) 227-1320; e-mail jill.demarco@faa.gov.

SUPPLEMENTARY INFORMATION:

Comments Invited

The FAA invites anyone interested in the proposed AC to comment on it by sending written data, views, or arguments as they may desire. Identify the AC by title and send your comments in duplicate to the address mentioned previously. The Transport Airplane Directorate will consider all communications received by the closing date for comments before issuing the final AC.

Availability of Proposed AC

You can find and download the proposed AC from the Internet at http:

//www.faa.gov/avr/air/airhome.htm, at the link titled “Advisory Circulars” under the “Available Information” drop-down menu. You can get a paper copy of the proposed AC by contacting the person named above under the caption FOR FURTHER INFORMATION CONTACT.

Discussion

In a separate notice published elsewhere in this Federal Register, the FAA is proposing to amend the airworthiness standards for transport category airplanes concerning the protection of electrical system components. The proposal would revise Title 14, Code of Federal Regulations (CFR), 25.869(a) to adopt what are considered the “more stringent” requirements that currently exist in the parallel European Joint Airworthiness Requirements (JAR) 25.869(a). We initiated the proposal under the “Fast Track Harmonization Program” (64 FR 66522, November 26, 1999). Adopting the proposal would eliminate regulatory differences between the airworthiness standards of the U.S. and the Joint Aviation Requirements of Europe, without affecting current industry design practices.

We have prepared proposed AC 25.869-1X, “Electrical System Fire and Smoke Protection,” to provide guidance on one means of showing compliance with the revised requirements of § 25.896(a). Final issuance of proposed AC 25.869-1X is contingent on the final adoption of the proposed changes to § 25.869(a).

Issued in Renton, Washington, on May 3, 2001.
Lirio Liu Nelson,
Acting Manager, Transport Airplane Directorate, Aircraft Certification Service.

[FR Doc. 01-12101 Filed 5-14-01; 8:45 am]

BILLING CODE 4910-13-P